DEPARTMENT OF LABOR

Mine Safety and Health Administration

Petitions for Modification

The following parties have filed petitions to modify the application of existing safety standards under section 101(c) of the Federal Mine Safety and Health Act of 1977.

1. Tito Coal

[Docket No. M-2003-062-C]

Tito Coal, 118 Fairview Lane, Williamstown, Pennsylvania 17098 has filed a petition to modify the application of 30 CFR 75.1002-1 (now 75.1002) (Installation of electric equipment and conductors; permissibility) to its White Vein Slope (MSHA I.D. No. 36-06815) located in Schuylkill County, Pennsylvania. The petitioner requests a modification in the application of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

2. Canyon Fuel Company, LLC

[Docket No. M-2003-063-C]

Canyon Fuel Company, LLC, P.O. Box 1029, Wellington, Utah 84542 has filed a petition to modify the application of 30 CFR 75.350 (Air courses and belt haulage entries) to its Dugout Canyon Mine (MSHA I.D. No. 42-01890) located in Carbon County, Utah. The petitioner requests that its previous petition for modification, docket number M-2000-171-C, be amended to remove the following language in Paragraph V.(C): “must include a means, maintained in operating condition, to maintain the surface temperature of the exhaust system of diesel equipment below 302 degrees Fahrenheit”, and to replace Paragraph V.(C) as follows: “In addition to the requirements of V.(B), diesel-powered equipment classified as heavy-duty under 30 CFR 75-1908(a), must include a means, maintained in operating condition, to prevent the spray from ruptured diesel fuel, hydraulic oil, and lubricating oil lines from being ignited by contact with engine exhaust system component surfaces such as shielding, conduit, non-absorbent insulating materials, or other similar means.” The petitioner asserts that covering the exhaust systems would present a diminution of safety to the miners due to the possibility that combustible material can accumulate under the insulating material often creating a potential fire hazard.

3. Eastern Associated Coal Corp.

[Docket No. M-2003-064-C]

Eastern Associated Coal Corp., 1970 Barrett Court, P.O. Box 1990, Henderson, Kentucky 42419-1990 has filed a petition to modify the application of 30 CFR 75.1108(Flame-resistant conveyor belts) to its Matewan Tunnel Mine (MSHA I.D. No. 46-08610) located in Boone County, West Virginia. The petitioner proposes to use approximately 10,000 feet of the total 26,000 feet of belt in a specific location and application with safeguards in place that would guarantee and provide no less than the same degree of safety as the existing standard, in lieu of using underground belting that meets the requirements for flame-resistant conveyor belts. The petitioner asserts that the proposed alternative method would provide at least the same measure of protection as the existing standard.

4. D & D Coal Co.

[Docket No. M-2003-065-C)

D & D Coal Co., 320 East Main Street, Hegins, Pennsylvania 17938 has filed a petition to modify the application of 30 CFR 75.333(e)(1)(ii) (Ventilation controls) to its Primrose Slope Mine (MSHA I.D. No. 36-08341) located in Schuylkill County, Pennsylvania. The petitioner requests a modification of the existing standard to permit the use of a 2 x 3 foot diameter fiberglass overcast in the intake slope that is 20 feet in length. The petitioner asserts that the proposed alternative method would provide at least the same measure of protection as the existing standard.

5. Little Eagle Coal Company

[Docket No. M-2003-066-C]

Little Eagle Coal Company, Route 16 Fola Road, Bickmore, West Virginia 25019 has filed a petition to modify the application of 30 CFR 75.900 (Low- and medium-voltage circuits serving three-phase alternating current equipment; circuit breakers) to its Little Eagle Mine (MSHA I.D. No. 46-08560) located in Clay County, West Virginia. The petitioner proposes to use a vacuum contactor in series with the circuit breaker to perform tripping tasks normally associated with the circuit breaker. The petitioner has listed in this petition for modification specific procedures that would be followed when using vacuum contactors. The petitioner asserts that the proposed alternative method would provide at least the same measure of protection as the existing standard.

6. Canyon Fuel Company, LLC

[Docket No. M-2003-067-C]

Canyon Fuel Company, LLC, P.O. Box 1029, Wellington, Utah 84542 has filed a petition to modify the application of 30 CFR 75.350 (Air courses and belt haulage entries) to its Dugout Canyon Mine (MSHA I.D. No. 42-01890) located in Carbon County, Utah. The petitioner requests that its previous petition for modification, docket number M-2000-171-C, be amended, as it relates to two-entry longwall retreat mining, to add the following paragraph: “In the event hydrogen sulfide is encountered during the development phase of a longwall panel, the petitioner shall have the option of utilizing the conveyor belt entry as a neutral split of air during retreat mining operations. The belt air shall be coursed away from the longwall section, in lieu of ‘point feeding' the intake air at the mouth of the section.” The petitioner asserts that the proposed alternative method would provide at least the same measure of protection as the existing standard.

7. Dynatec Mining Corporation

[Docket No. M-2003-004-M]

Dynatec Mining Corporation, 2200 South 4000 West, Salt Lake City, Utah 84120 has filed a petition to modify the application of 30 CFR 57.22606(a) and (c) (Explosive materials and blasting units (III mines)) to its FMC No. 9 Ventilation Shaft Project (MSHA I.D. No 48-00152) located in Sweetwater County, Wyoming. The petitioner proposes to use electric detonators to initiate blasts but requests a modification of the existing standard to allow the use of nonel detonators to detonate the explosives in the blast holes. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before November 6, 2003. Copies of these petitions are available for inspection at that address.

Dated at Arlington, Virginia, this 29th day of September, 2003.
Marvin W. Nichols, Jr.,
Director, Office of Standards, Regulations, and Variances.

[FR Doc. 03-25410 Filed 10-6-03; 8:45 am]

BILLING CODE 4510-43-P